DEPARTMENT OF COMMERCE

National Institute of Standards and Technology

Information Collection Activities; Submission to the Office of Management and Budget (OMB) for Review and Approval; Comment Request; Ecosystem Questionnaire for States and Territories To Inform CHIPS R&D Facility Site Selection Process

The Department of Commerce will submit the following information collection request to the Office of Management and Budget (OMB) for emergency review and approval in accordance with the Paperwork Reduction Act of 1995, on or after the date of publication of this notice. We invite the general public and other Federal agencies to comment on proposed, and continuing information collections, which helps us assess the impact of our information collection requirements and minimize the public's reporting burden.

Agency: National Institute of Standards and Technology (NIST).

Title: Ecosystem Questionnaire for States and Territories to Inform CHIPS R&D Facility Site Selection Process.

OMB Control Number 0693-XXXX.

Form Number(s): None.

Type of Request: Emergency submission, New Information Collection Request.

Number of Respondents: 56.

Average Hours per Response: 10 hours.

Burden Hours: 560 hours.

Needs and Uses: CHIPS R&D is seeking to collect information needed for implementation of the CHIPS Act of 2022 (Division A of Pub. L. 117-167) (the Act). The Act tasks the Secretary of Commerce with carrying out sections 9904 and 9906 of the William M. (Mac) Thornberry National Defense Authorization Act for Fiscal Year 2021 (15 U.S.C. 4652, 4654, and 4656). This statute aims to catalyze long-term growth in the domestic semiconductor industry in support of U.S. economic resilience and national security. This information collection is needed in conjunction with a multi-phase site selection process that will be used to identify a flagship research and development prototyping and packaging facility that is anticipated to become the lynchpin of both the National Semiconductor Technology Center (NSTC) and the National Advanced Packaging Manufacturing Program (NAPMP), the two largest research and development programs established by Congress through the CHIPS Act of 2022. The information is important for the Department of Commerce and Natcast—the purpose-built nonprofit entity which serves as the operator of the NSTC, and which is anticipated to serve as the operator of this flagship facility—in order to establish at the outset of the site selection process which states and/or territories have existing semiconductor ecosystems that could support this facility.

Both the NSTC and NAPMP have a need to expeditiously identify facilities in order to accomplish their statutory missions. The NSTC is required to “to conduct advanced semiconductor manufacturing, design and packaging research, and prototyping that strengthens the entire domestic ecosystem.” 15 U.S.C. 4656(c)(2)(A). The NSTC is expected to “significantly reduce the time and cost of moving from design idea to commercialization through access to shared facilities, digital assets and technical expertise for advancing design, prototyping, manufacturing, packaging, and scaling of semiconductors and semiconductor-related products” (https://www.nist.gov/system/files/documents/2023/04/26/NSTC-Vision-Strategy-Fact-Sheet.pdf). The NAPMP is expected to “include an Advanced Packaging Piloting Facility (APPF) where successful development efforts will be transitioned and validated for scaled transition to U.S. manufacturing. This is a key facility for technology transfer to high-volume manufacturing” (https://www.nist.gov/system/files/documents/2023/11/19/NAPMP-Vision-Paper-20231120.pdf, pg. 3).

The information collection will take the form of an Ecosystem Questionnaire for States and Territories to Inform CHIPS R&D Facility Site Selection Process. The Questionnaire will pose identical questions to Economic Development Organizations (EDOs) in all 56 states and territories. This collection is subject to the Paperwork Reduction Act as the RFI would pose identical questions to all 56 states and territories. See 5 CFR 1320.3(c)(4) and (k)). The Ecosystem Questionnaire will request information regarding the extent to which a state or territory can demonstrate: the presence of entities from the semiconductor value chain; a semiconductor workforce and current workforce development programs; semiconductor-related advanced education and research programs; significant state, local, and private investment in the semiconductor ecosystem; and state incentives for semiconductor research and development. The Ecosystem Questionnaire is also structured to be as minimally burdensome as possible, both because responses are predominantly requested in the form of multiple-choice answers, and because the information the Questionnaire solicits should be easily available to EDOs. This will be a one-time collection of information to all 56 states and territories. Only states or territories that submit responses to the Ecosystem Questionnaire will be considered for selection of this facility.

Affected Public: State and local governments.

Frequency: Once.

Respondent's Obligation: Voluntary.

Legal Authority

This information collection request may be viewed at www.reginfo.gov. Follow the instructions to view the Department of Commerce collections currently under review by OMB.

Written comments and recommendations for the proposed information collection should by 11:59 p.m. EST on July 12, 2024 on the following website www.reginfo.gov/public/do/PRAMain. Find this particular information collection by selecting “Currently under 30-day Review—Open for Public Comments” or by using the search function and entering the title of the collection.

Peter Robbins,
Attorney-Advisor, Office of the General Counsel for Legislation and Regulation, Commerce Department.

[FR Doc. 2024-14794 Filed 7-3-24; 8:45 am]

BILLING CODE 3510-13-P